DEPARTMENT OF HEALTH AND HUMAN SERVICES

National Institutes of Health

National Cancer Institute; Amended Notice of Meeting

Notice is hereby given of a change in the meeting of the National Cancer Institute Special Emphasis Panel, March 11, 2009, 8 a.m. to March 12, 2009, 6 p.m., National Cancer Institute/NIH, 6116 Executive Blvd., Room 8053, Rockville, MD 20852 which was published in the Federal Register on January 29, 2009, 74FR5170.

The meeting notice is changed to reflect the date change from March 11-12, 2009 to March 18-19, 2009. The meeting is closed to the public.

Dated: February 11, 2009.
Jennifer Spaeth,
Director, Office of Federal Advisory Committee Policy.

[FR Doc. E9-3309 Filed 2-13-09; 8:45 am]

BILLING CODE 4140-01-P